DEPARTMENT OF TRANSPORTATION

National Highway Traffic Safety Administration

[Docket No. NHTSA-2007-27371]

Federal Motor Vehicle Safety Standards; Occupant Protection in Interior Impact; Review: 1999-2003 Head Impact Upgrade; Evaluation Report

AGENCY: National Highway Traffic Safety Administration (NHTSA), Department of Transportation.

ACTION: Request for comments on technical report.

SUMMARY: This notice announces NHTSA's publication of a Technical Report reviewing and evaluating its existing Safety Standard 201, Occupant Protection in Interior Impact. The report's title is: HIC Test Results before and after the 1999-2003 Head Impact Upgrade of FMVSS 201.

DATES: Comments must be received no later than June 28, 2007.

ADDRESSES:

Report: The report is available for viewing on line in PDF format at the Docket Management System (DMS) Web page of the Department of Transportation, http://dms.dot.gov. Click on “Simple Search”; type in the five-digit Docket number shown at the beginning of this Notice (27371) and click on “Search”; that brings up a list of every item in the docket, starting with a copy of this Federal Register notice (item NHTSA-2007-27371-1) and a copy of the report in PDF format (item NHTSA-2007-27371-2).

Comments: You may submit comments [identified by DOT DMS Docket Number NHTSA-2007-27371] by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

You may call Docket Management at 202-366-9324 and visit the Docket from 10 a.m. to 5 p.m., Monday through Friday.

FOR FURTHER INFORMATION CONTACT: Charles Kahane, Chief, Evaluation Division, NPO-131, National Center for Statistics and Analysis, National Highway Traffic Safety Administration, Room 5208, 400 Seventh Street, SW., Washington, DC 20590. Telephone: 202-366-2560. FAX: 202-366-2559. E-mail: chuck.kahane@dot.gov.

SUPPLEMENTARY INFORMATION: Safety Standard 201 (49 CFR 571.201) was upgraded in 1995, with a 1998-2002 phase-in, to reduce occupants' risk of head injury from contact during crashes with a vehicle's upper interior, including its pillars, roof headers and side rails, and the upper roof (60 FR 43031). Initially, energy-absorbing materials alone were used to meet the standard; later, some vehicles were also equipped with head-protection air bags. NHTSA does not yet have enough crash data to evaluate the injury-reducing effectiveness of the energy-absorbing materials. However, the agency has conducted 154 matched pairs of impact tests with free-motion headforms in pre- and post-standard vehicles of 15 selected make-models. The Head Injury Criterion, HIC(d) averaged 909.9 in the 154 pre-standard tests and 667.5 in the post-standard vehicles. This is a statistically significant average improvement of 242.4 units of HIC.

How can I influence NHTSA's thinking on this subject?

NHTSA welcomes public review of the technical report and invites reviewers to submit comments about the data and the statistical methods used in the analyses. NHTSA will submit to the Docket a response to the comments and, if appropriate, additional analyses that supplement or revise the technical report.

How do I prepare and submit comments?

Your comments must be written and in English. To ensure that your comments are correctly filed in the Docket, please include the Docket number of this document (NHTSA-2007-27371) in your comments.

Your primary comments must not be more than 15 pages long (49 CFR 553.21). However, you may attach additional documents to your primary comments. There is no limit on the length of the attachments.

Please send two paper copies of your comments to Docket Management, submit them electronically, or fax them. The mailing address is U.S. Department of Transportation Docket Management, Room PL-401, 400 Seventh Street, SW., Washington, DC 20590. If you submit your comments electronically, log onto the Dockets Management System Web site at http://dms.dot.gov and click on “Help” to obtain instructions. The fax number is 1-202-493-2251.

We also request, but do not require you to send a copy to Charles Kahane, Evaluation Division, NPO-131, National Highway Traffic Safety Administration, Room 5208, 400 Seventh Street, SW., Washington, DC 20590 (alternatively, FAX to 202-366-2559 or e-mail to chuck.kahane@dot.gov). He can check if your comments have been received at the Docket and he can expedite their review by NHTSA.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, send three copies of your complete submission, including the information you claim to be confidential business information, to the Chief Counsel, NCC-01, National Highway Traffic Safety Administration, Room 5219, 400 Seventh Street, SW., Washington, DC 20590. Include a cover letter supplying the information specified in our confidential business information regulation (49 CFR Part 512).

In addition, send two copies from which you have deleted the claimed confidential business information to Docket Management, Room PL-401, 400 Seventh Street, SW., Washington, DC 20590, or submit them electronically.

Will the agency consider late comments?

In our response, we will consider all comments that Docket Management receives before the close of business on the comment closing date indicated above under DATES. To the extent possible, we will also consider comments that Docket Management receives after that date.

Please note that even after the comment closing date, we will continue to file relevant information in the Docket as it becomes available. Further, some people may submit late comments. Accordingly, we recommend that you periodically check the Docket for new material.

How can I read the comments submitted by other people?

You may read the comments by visiting Docket Management in person at Room PL-401, 400 Seventh Street, SW., Washington, DC from 10 a.m. to 5 p.m., Monday through Friday.

You may also see the comments on the Internet by taking the following steps:

A. Go to the Docket Management System (DMS) Web page of the Department of Transportation (http://dms.dot.gov).

B. On that page, click on “Simple Search.”

C. On the next page (http://dms.dot.gov/search/searchFormSimple.cfm/) type in the five-digit Docket number shown at the beginning of this Notice (27371). Click on “Search.”

D. On the next page, which contains Docket summary information for the Docket you selected, click on the desired comments. You may also download the comments.

(Authority: 49 U.S.C. 30111, 30168; delegation of authority at 49 CFR 1.50 and 501.8.)

James F. Simons,
Director, Office of Regulatory Analysis and Evaluation.

[FR Doc. E7-3442 Filed 2-27-07; 8:45 am]

BILLING CODE 4910-59-P